DEPARTMENT OF HEALTH AND HUMAN SERVICES

Centers for Disease Control and Prevention

Disease, Disability, and Injury Prevention and Control Special Emphasis Panels (SEP): Epi-Centers for Prevention of Healthcare-Associated Infections, Request for Application CI06-001

In accordance with Section 10(a)(2) of the Federal Advisory Committee Act (Pub. L. 92-463), the Centers for Disease Control and Prevention (CDC) announces the following meeting:

Name: Disease, Disability, and Injury Prevention and Control Special Emphasis Panel (SEP): Epi-Centers for Prevention of Healthcare-Associated Infections, Request for Application CI06-001.

Times and Dates: 9 a.m.-4:30 p.m., December 9, 2005 (Closed).

Place: Renaissance Concourse Hotel, One Hartsfield Centre Parkway, Atlanta, GA 30354, Telephone Number (404) 209-9999.

Status: The meeting will be closed to the public in accordance with provisions set forth in Section 552b(c)(4) and (6), Title 5 U.S.C., and the Determination of the Director, Management Analysis and Services Office, CDC, pursuant to Public Law 92-463.

Matters to Be Discussed: The meeting will include the review, discussion, and evaluation of applications received in response to: Epi-Centers for Prevention of Healthcare-Associated Infections, Request for Application CI06-001.

Contact Person for more Information: Trudy Messmer, PhD, Scientific Review Administrator, National Center for Infectious Diseases, CDC, 1600 Clifton Road, NE., Mailstop C-19, Atlanta, GA 30333, Telephone Number (404) 639-3770.

The Director, Management Analysis and Services Office, has been delegated the authority to sign Federal Register notices pertaining to announcements of meetings and other committee management activities, for both CDC and the Agency for Toxic Substances and Disease Registry.

Dated: October 28, 2005.
Alvin Hall,
Director, Management Analysis and Services Office, Centers for Disease Control and Prevention.

[FR Doc. 05-21908 Filed 11-2-05; 8:45 am]

BILLING CODE 4163-18-P